DEPARTMENT OF LABOR

Employment and Training Administration

Comment Request for Information Collection for Applications, Grants and Administration of Short Time Compensation (STC) Provisions, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

ETA is soliciting comments concerning the continuation of the collection of data concerning administration of recent changes and grants for the expansion of STC beyond the current expiration date of 12/31/2012.

DATES: Written comments must be submitted to the office listed in the addresses section below on or before October 12, 2012.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

The recent enactment of Public Law 112-96 (The Middle Class Tax Relief and Job Creation Act of 2012, referred to hereafter as “MCTRJC” or “the act”) contains Subtitle D, Short-Time Compensation Program, also known as the “Layoff Prevention Act of 2012”. The sections of the law under this subtitle concern states that currently participate in, or wish to initiate a new program in, a layoff aversion program known as short time compensation (STC) or work sharing.

Section 2161 establishes the operational rules for the STC program and Section 2162 covers the temporary financing of STC payments by the Federal Government to states with programs currently in their law. Section 2163 establishes the temporary financing of STC payments by the Federal Government to states operating an STC program under an agreement with the Secretary of Labor and Section 2164 covers grants the Federal Government can provide to state applicants whose STC laws conform to the requirements of Section 2161 for the purpose of implementation or improved administration of an STC program, or for promotion and enrollment in the program.

Each of these sections of the law requires, to varying extents, applications, new administrative processes, monitoring and reporting of data between the state workforce agencies (SWAs) and ETA. ETA has principal oversight responsibility for the Unemployment Insurance (UI) program that SWAs operate. As a result of the many changes to the funding and administration of the UI system introduced in Public Law 112-96, ETA needs to allow for additional reporting and data collection for proper oversight of state STC programs.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Applications, Grants and Administration of Short Time Compensation (STC) Provisions.

OMB Number: 1205-0499.

Affected Public: State Workforce Agencies.

Total Annual Burden Cost for Respondents: There are no burden costs.

Category (BOLD) and instruments | Respondents | Hours per response | Annualized responses | Annualized hours
States Coming Into Conformity With New Federal STC Law
General STC UIPL: Attachment II—Text of Agreement | 53 | 5 | n/a | 265
General STC UIPL: Addendum to FY2012 Annual Funding Agreement for UI Program | 53 | 5 | n/a | 265
States With STC Programs Applying for Grants To Enhance or Promote Their Current Programs
UIPL on state STC grants: Attachment 1—STC Proposal Outline for STC Applications | 25 | 80 | n/a | 2,000
UIPL on state STC grants: Attachment 2—STC Application Checklist | 25 | 80 | n/a | 2,000
UIPL on state STC grants: Attachment 3—Quarterly Narrative Progress Report | 25 | 25 | 88 | 2,200
UIPL on state STC grants: Attachment 5—STC Grant Agreement | 25 | 5 | n/a | 125
States Without STC Programs Applying To Operate a Federal STC Program
Attachment 1—Implementing and Operating Instructions for Federal STC Agreement | 28 | 80 | n/a | 2,240
Attachment 2—Federal-state Agreement (Draft) | 28 | 5 | n/a | 140
UIPL on Federal STC: Attachment 3—Federal-state Agreement (Draft) | 28 | 5 | n/a | 140
Unduplicated Totals | 53 |  |  | 9,375

Comments submitted in response to this comment request will be summarized and/or included in the request for OMB approval of the ICR; they will also become a matter of public record.

Dated: Signed in Washington, DC, on this 6th day of August, 2012.
Jane Oates,
Assistant Secretary for Employment and Training, Labor.

[FR Doc. 2012-19707 Filed 8-10-12; 8:45 am]

BILLING CODE 4510-FW-P